DEPARTMENT OF HEALTH AND HUMAN SERVICES

National Institutes of Health

National Center for Complementary & Alternative Medicine; Amended Notice of Meeting

Notice is hereby given of a change in the meeting of the National Center for Complementary and Alternative Medicine Special Emphasis Panel, October 16, 2013, 2:00 p.m. to October 16, 2013, 6:00 p.m., National Institutes of Health, Two Democracy Plaza, 6707 Democracy Boulevard, Bethesda, MD 20892 which was published in the Federal Register on September 12, 2013, Vol. 78, No. 177.

The meeting of the Special Emphasis Panel ZAT1 PK 28, PAR 10-163 R34, will be held on November 19, 2013, instead of October 16, 2013, at noon and will end at 3:00 p.m. The meeting location remains the same. The meeting is closed to the public.

Dated: October 24, 2013.
Michelle Trout,
Program Analyst, Office of Federal Advisory Committee Policy.

[FR Doc. 2013-25650 Filed 10-29-13; 8:45 am]

BILLING CODE 4140-01-P